DEPARTMENT OF COMMERCE

National Oceanic and Atmospheric Administration

[I.D. 100802G]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene public meetings of the Technical Review Panel, the User Review Panel, and the Standing Scientific and Statistical Committee (SSC) from October 30, 2002 through November 1, 2002.

DATES: The Council's Technical Review Panel, User Review Panel, and Standing SSC will convene in separate meetings at 1 p.m. on Wednesday, October 30, 2002 and will conclude by 3 p.m. on Friday, November 1, 2002.

ADDRESSES: The meetings will be held at the Hilton Tampa Airport Westshore Hotel, 2225 Lois Avenue, Tampa, FL; telephone: 813-877-6688.

Council address: Gulf of Mexico Fishery Management Council, 3018 U.S. Highway 301 North, Suite 1000, Tampa, FL 33619.

FOR FURTHER INFORMATION CONTACT: Dr. Richard Leard, Senior Fishery Biologist, the Gulf of Mexico Fishery Management Council, 3018 U.S. Highway 301 North, Suite 1000, Tampa, FL 33619; telephone: 813-228-2815.

SUPPLEMENTARY INFORMATION: The Technical Review Panel will review the intermediate draft of the Essential Fish Habitat (EFH) Environmental Impact Statement (EIS) and provide the Council and contractor with suggestions for technical revisions. In addition the Technical Review Panel members serve as contract monitors.

The User Review Panel will review the intermediate draft of the EFH EIS and provide the Council and contractor with suggestions for revisions. In addition the User Review Panel members are asked to provide their comments on whether the documents properly address the issues of each user group represented. The User Review Panel is comprised of representatives from the following sectors: recreational, charter, commercial, environmental, oil and gas industry, and wetlands owners.

The Standing Scientific and Statistical Committee will review the intermediate draft of the EFH EIS and provide the Council and contractor with an evaluation of the scientific completeness and possible suggestions for revisions.

Although non-emergency issues not contained in the agendas may come before the Technical and User Review Panels and the SSC for discussion, in accordance with the Magnuson-Stevens Fishery Conservation and Management Act (Magnuson Act), those issues may not be the subject of formal action during these meetings. Action will be restricted to those issues specifically identified in this notice and any issues arising after publication of this notice that require emergency action under section 305 (c) of the Magnuson Act, provided the public has been notified of the Council's intent to take final action to address the emergency.

Copies of the agendas of these meetings can be obtained by calling the Council office at 813-228-2815 (toll-free 888-833-1844).

Special Accommodations

This meeting is physically accessible to people with disabilities. Requests for sign language interpretation or other auxiliary aids should be directed to Anne Alford at the Council (see ADDRESSES) by October 23, 2002.

Dated: October 10, 2002.
Matteo J. Milazzo,
Acting Director, Office of Sustainable Fisheries, National Marine Fisheries Service.

[FR Doc. 02-26322 Filed 10-15-02; 8:45 am]

BILLING CODE 3510-22-S